DEPARTMENT OF THE INTERIOR

Bureau of Land Management

[NV-020-1610-DH]

Notice To Terminate Future Planning Action on the Sonoma-Gerlach and Paradise-Denio Management Framework Plan Amendment and Draft Environmental Impact Statement for the Black Rock Desert, Nevada

AGENCY: Bureau of Land Management, Winnemucca Field Office, Interior.

ACTION: Notice.

SUMMARY: The Bureau of Land Management has terminated any future planning action on the Sonoma-Gerlach and Paradise-Denio Management Framework Plan Amendment and Draft Environmental Impact Statement (SG/PDMFPDEIS) for the Black Rock Desert. The decision to terminate this planning effort was made as a result of the recently enacted Black Rock Desert-High Rock Canyon Emigrant Trails National Conservation Area Act of 2000 or Public Law 106-554. The recently enacted legislation states that “Within three years following the date of enactment of this Act, the Secretary shall develop a comprehensive resource management plan for the long-term protection and management of the conservation area. The plan shall be developed with full public participation and shall describe the appropriate uses and management of the conservation area consistent with the provisions of this Act.” Because the area specially designated by Public Law 106-554 overlaps the earlier planning area and is significantly larger, and to comply with the management plan criteria established in the Act, the existing planning effort will be terminated and a new site-specific Resource Management Plan will be developed for the National Conservation Area and associated Wilderness Areas.

Public input and issue identification obtained through the SG/PDMFPDEIS planning effort will be incorporated into the NCA plan where applicable.

DATES: Effective immediately.

FOR FURTHER INFORMATION CONTACT: Jeff Johnson, Planning/Environmental Coordinator, Winnemucca Field Office, 5100 E. Winnemucca Boulevard, Winnemucca, Nevada 89445, or call (775) 623-1500.

SUPPLEMENTARY INFORMATION: A separate Notice of Intent will be published in the Federal Register to initiate the planning effort associated with the Black Rock Desert-High Rock Canyon Emigrant Trails National Conservation Area Act of 2000.

Dated: February 27, 2001.
Douglas S. Dodge,
Associate Field Manager, Winnemucca, Nevada.

[FR Doc. 01-5891 Filed 3-8-01; 8:45 am]

BILLING CODE 4310-HC-P